DEPARTMENT OF TRANSPORTATION

Pipeline and Hazardous Materials Safety Administration

Hazardous Materials: Notice of Application for Modification of Special Permit

AGENCY: Pipeline and Hazardous Materials Safety Administration (PHMSA), DOT.

ACTION: List of Application for Modification of Special Permits

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before December 14, 2015.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

Copies of the applications are available for inspection in the Records Center, East Building, PHH-30, 1200 New Jersey Avenue Southeast, Washington, DC or at http://regulations.gov.

This notice of receipt of applications for modification of special permit is published in accordance with Part 107 of the Federal hazardous materials transportation law (49 U.S.C. 5117(6); 49 CFR I .53(b)).

Issued in Washington, DC, November 4, 2015.
Don Burger,
Chief, General Approvals and Permits.

Application No. | Docket No. | Applicant | Regulation(s) affected | Nature of permit thereof
MODIFICATION SPECIAL PERMITS
7765-M |  | Carleton Technologies, Inc., Orchard Park, NY | 49 CFR 173.302(a)(4); 175.3 | To modify the special permit to authorize a competent internal Carleton inspector to perform the required duties outlined in § 178.35(c).
12399-M |  | Linde Gas, North America LLC., Murray Hill, NJ | 49 CFR 180.209 | To modify the special permit to authorize DOT Speciafication 3AL cylinders made of 6351-T6 aluminum to be requalified by ultrasonic examination and eddy current examination in accordance with 49 CFR Appendix C to Part 180.
12562-M |  | Taeyang Corporation, Chung Nam | 49 CFR 173.304(d)(3)(ii) | To modify the special permit to authorize additional Division 2.1 hazardous materials, add an additional inside container design, mark each container “DOT-SP 12562” instead of “DOTE-12562” and company name change.
13192-M |  | Thomas Gray & Associates, Inc., Orange, CA | 49 CFR 173.12(b) | To modify the special permit to authorize transportation of radioactive materials.

Application No. | Docket No. | Applicant | Regulation(s) affected | Nature of permit thereof
MODIFICATION SPECIAL PERMITS
14206-M |  | Digital Wave Corporation, Centennial, CO | 49 CFR 172.203(a), 172.301(c), and 180.205 | To modify the special permit to add DOT Specification 3AX, 3AAX cylinders and 3T tubes which exceed 125 lbs water capacity for requalification by ultrasonic examination once every ten years.
14625-M |  | KIK Piedmont LLC, Gainesville, GA | 49 CFR 173.306(a)(3)(v) | To modify the special permit to allow an additional DOT Specification 2Q aluminum non-refillable inside container.
16361-M |  | The University of Cincinnati, Cincinati, OH | 49 CFR 173.196 | To modify the special permit to eliminate the requirement for the transport vehicle to be equipped with an environmental control backup system capable of turning on power to maintain a temperature of at −30 degrees Celsius or below.
16490-M |  | William T. Poe & Associates Inc. d/b/a Explosive Service International, Baton Rouge, LA | 49 CFR 176.63; 176.83; 176.116(e); 176.116(e); 176.120; 176.137(a)(7); 176.138(b); 176.144(e); 176.145(b); 176.164(e); 176.178(b) | To modify the special permit originally issued on an emergency basis to authorize an additional two years.

Application No. | Docket No. | Applicant | Regulation(s) affected | Nature of permit thereof
MODIFICATION SPECIAL PERMITS
16492-M |  | Construction Helicopters, Inc., Howell, MI | 49 CFR 172.101 Hazardous Materials Table Column (9B), Subpart C of Part 172, 172.301(c), 172.302(c), 173.27(b)(2), 175.30, Part 178 | To modify the special permit to remove the provision “training or qualification of a new crew member will not take place during the execution of this special permit.”

[FR Doc. 2015-29955 Filed 11-25-15; 8:45 am]

BILLING CODE 4909-60-M